DEPARTMENT OF AGRICULTURE

Rural Utilities Service

Central Electric Power Cooperative, Inc.: Notice of Availability of a Draft Environmental Impact Statement and Notice of a Public Meeting

AGENCY: Rural Utilities Service, USDA.

ACTION: Notice of Availability of a Draft Environmental Impact Statement.

SUMMARY: The Rural Utilities Service (RUS), an agency within the U.S. Department of Agriculture (USDA), has issued a draft environmental impact statement (DEIS) for Central Electric Power Cooperative's (Central Electric) proposed McClellanville 115-kV Transmission Project (Project) in South Carolina. RUS is issuing the DEIS to inform the public and interested parties about the proposed Project and to invite the public to comment on the scope, proposed action, and other issues addressed in the DEIS.

The DEIS addresses the construction, operation, and maintenance of Central Electric's proposed Project. The Project includes construction, operation, and maintenance of approximately 15-20 miles of new 115-kV transmission line, 1 new substation, temporary construction roads, river crossings, temporary construction staging sites, and other facilities described in the DEIS. The overall project area encompasses parts of Georgetown and Charleston counties in coastal South Carolina.

Portions of Central Electric's proposed routes may affect floodplains, wetlands, cultural, historical and paleontological resources. Once a final right-of-way (ROW) is selected within the preferred route, coordination with the federal and state agencies and other interested parties would occur to identify, evaluate and if needed mitigate any adverse effects. RUS will hold a public hearing meeting to share information and receive comments on the DEIS.

DATES: The public comment period on the DEIS starts with the publication of the U.S. Environmental Protection Agency's environmental impact statement (EIS) receipt notice in the Federal Register and will continue for 45 days. RUS will consider all substantive written comments on the DEIS received or postmarked by that date. Agencies, interested parties, and the public are invited to submit comments on the DEIS at any time during the public comment period. An open house public hearing is scheduled for June 3, 2014. The time and location of the meeting will be well-advertised in local media outlets a minimum of 15 days prior to the time of the meeting.

FOR FURTHER INFORMATION CONTACT: For information on the proposed Project, the DEIS process, and RUS financing, contact Ms. Lauren McGee Rayburn, Environmental Scientist, Rural Utilities Service, 84 Coxe Ave., Suite 1E, Ashville, North Carolina 28801, Telephone: (202) 695-2540, Facsimile: (202) 690-0649, or email: Lauren.McGee@wdc.usda.gov. Parties wishing to be placed on the Project mailing list for future information and to receive copies of the DEIS and the Final EIS when available should also contact Ms. McGee Rayburn.

SUPPLEMENTARY INFORMATION: RUS is authorized to make loans and loan guarantees that finance the construction of electric distribution, transmission, and generation facilities, including system improvements and replacements required to furnish and improve electric service in rural areas, as well as demand side management, energy conservation programs, and on-grid and off-grid renewable energy systems. Central Electric is an electric transmission cooperative that provides transmission service from the bulk transmission system to South Carolina's 20 retail electric cooperatives. Berkeley Electric, a member distribution electric cooperative of Central Electric, was formed in 1940 to bring electric service to rural areas of coastal South Carolina. Berkeley Electric owns and operates more than 5,000 miles of distribution line serving more than 80,000 accounts in Berkeley, Charleston, and Dorchester counties.

Project Description: Central Electric has identified the need for additional electric transmission capacity in coastal South Carolina to meet reliability and system stability requirements for the region. Investigations and analyses conducted for the overall power delivery systems found that without improvements, the flow of power along existing lines may result in local line overloads and power outages.

To resolve these issues, Central Electric is proposing to construct, own and operate a new 115-kV transmission line and associated supporting infrastructure. The entire Project will consist of constructing approximately 15-20 miles of new single circuit 115-kV, the construction of 1 new substation, improvements to temporary off-ROW construction roads, river crossings, and a single, temporary, 5-to 10-acre construction staging site. The proposed Project would connect from either the Belle Isle Substation or at a tap point on the Winyah-Belle Isle 115 kV transmission line to McClellanville. The proposed Project would be located in portions of Georgetown and Charleston counties in coastal South Carolina and considers six possible Alternative Routes for the transmission line.

Central Electric has requested financial assistance for the proposed Project from RUS. Completing the EIS is one of RUS's requirements in processing Central Electric's application, along with other technical and financial considerations. In accordance with 40 CFR 1501.5(b) of the Council on Environmental Quality's (CEQ) Regulation for Implementing the Procedural Provisions of the National Environmental Policy Act, RUS will serve as the lead agency in the preparation of the EIS.

RUS has prepared a DEIS and intends to issue a Final EIS to analyze the impacts of its respective federal actions and the proposed Project in accordance with the National Environmental Policy Act (NEPA), as amended, Council on Environmental Quality Regulation for Implementing the Procedural Provisions of the NEPA (40 CFR parts 1500-1508) and RUS Environmental Policies and Procedures (7 CFR part 1794).

Because the proposed Project may involve action in floodplains or wetlands, this Notice also serves as a notice of proposed floodplain or wetland action. The DEIS will include a floodplain/wetland assessment and, if required, a floodplain/wetland statement of findings will be issued with the Final EIS.

RUS has determined that its action regarding the proposed Project would be an undertaking subject to review under Section 106 of the National Historic Preservation Act, 16 U.S.C. 470 and its implementing regulations, “Protection of Historic Properties” (36 CFR Part 800). As part of its broad environmental review process, RUS must take into account the effect of the proposed Project on historic properties in accordance with Section 106. Pursuant to 36 CFR 800.2(d)(3), RUS is using its procedures for public involvement under NEPA to meet its responsibilities to solicit and consider the views of the public during Section 106 review. Accordingly, comments submitted in response to this Notice will inform RUS decision-making in its Section 106 review process. Any party wishing to participate more directly with RUS as a “consulting party” in Section 106 review may submit a written request to the RUS contact provided in this Notice.

Agency Responsibilities: RUS is serving as the lead Federal agency, as defined at 40 CFR 1501.5, for preparation of the DEIS. The U.S. Army Corps of Engineers and the U.S. Forest Service are participating as cooperating agencies and will be issuing decisions relevant to the project under separate authorities. RUS is also serving as the lead Federal agency for the Section 106 and Section 7 review processes.

Public Participation: Public participation and full disclosure are planned for the entire EIS process. The EIS process has included a scoping comment period to solicit comments from interested parties; consultation and involvement with appropriate Federal, State, local, and tribal governments. In addition, a 45-day review/comment period of the DEIS, with an open house public hearing is scheduled on June 3, 2014. The time and location of the meeting will be well-advertised in local media outlets a minimum of 15 days prior to the time of the meeting. Attendees will be welcome to come and go at their convenience and provide written or oral comments on the Project. In addition, attendees may provide written comments by letter, fax, or email. The process will be followed by publication of a Final EIS and publication of a Record of Decision. The expected environmental project review completion date is expected to be spring 2015.

Dated: May 6, 2014.
James F. Elliot,
Acting Assistant Administrator—Electric Programs, Rural Utilities Service.

[FR Doc. 2014-12454 Filed 5-28-14; 8:45 am]

BILLING CODE 3410-15-P